DEPARTMENT OF THE INTERIOR

National Park Service

Environmental Assessment for the Arlington County Virginia Potomac Interceptor Sewer System Improvements Project

AGENCY: National Park Service, Interior.

ACTION: Availability of the Environmental Assessment for the Potomac Interceptor Sewer System Improvements Project, Arlington County, Virginia.

SUMMARY: Pursuant to Council on Environmental Quality regulations and National Park Service (NPS) policy, the NPS announces the availability of an Environmental Assessment (EA) for the construction of a replacement sewer for the existing Potomac Interceptor sewer. The Potomac Interceptor sewer system is a major regional sanitary sewer which serves the east-central portions of Arlington County, including the Ballston-Courthouse-Rosslyn Metro Corridor area. The existing sewer system was constructed in the mid-1930s and is nearing the end of its useful life. The existing sewer system is also undersized and does not have the capacity to convey the peak flows produced by severe past and projected storm events. Additionally, the existing sewer system will experience surcharging on a daily basis under future build-out land use conditions. The EA examines several alternatives for construction of a replacement sewer system for the portion of the Potomac Interceptor sanitary sewer extending from the River Place Co-Op south to Columbia Pike. The subject project is designed to maintain continuous sewer service to existing local users, increase the carrying capacity of the sewer in order to eliminate surcharging and overflows which have occurred in this portion of the system, provide capacity for anticipated build-out conditions, and allow for future maintenance. The NPS is soliciting comments on this EA. These comments will be considered in evaluating it and making decisions pursuant to the National Environmental Policy Act.

DATES: The EA will remain available for public comment 30 days from the date of publication in the Federal Register. Written comments should be received no later than this date.

ADDRESSES: Comments on this EA should be submitted in writing to: Ms. Audrey F. Calhoun, Superintendent, George Washington Memorial Parkway, Turkey Run Park, McLean, Virginia 22101. The EA will be available for public inspection Monday through Friday, 8 a.m. through 4 p.m. at the GWMP Headquarters, Turkey Run Park, McLean, Virginia; and at the following libraries: Columbia Pike Library, Arlington, Virginia; and Arlington County Central Library, Arlington, Virginia.

SUPPLEMENTARY INFORMATION: Arlington County proposes to construct a replacement sanitary sewer for the Potomac Interceptor sewer extending from the River Place Co-Op to Columbia Pike. The goals and objectives of the proposed action include the following:

1. Provide additional sewer capacity to eliminate sewer overflows, backups, and surcharging (overflows have occurred at River Place),

2. Minimize environmental and community impacts,

3. Comply with pending Environmental Protection Agency Sanitary Sewer Overflow Regulations,

4. Address aging elements of the sewer system (the subject sewer is nearing the end of its useful life) and maintain system operating conditions at an adequate level of functionality,

5. Maintain continuous sewer service to existing local users,

6. Provide service availability to potential future users (Arlington Ridge Park, Arlington National Cemetery, etc.,

7. Consolidate utilities in Eisenhower Drive in accordance with the 1998 Master Plan for Arlington National Cemetery,

8. Maximize acreage for additional grave sites at Arlington National Cemetery,

9. Implement a cost-effective project for the ratepayers, and

10. Minimize capital and operating costs and operation and maintenance requirements.

All interested individuals, agencies, and organizations are urged to provide comments on the EA. The NPS, in making a final decision regarding this matter, will consider all comments received by the closing date.

FOR FURTHER INFORMATION CONTACT: Ms. Heather Germaine (703) 289-2540.

Audrey F. Calhoun,
Superintendent, George Washington Memorial Parkway.

[FR Doc. 03-21973 Filed 8-27-03; 8:45 am]

BILLING CODE 4310-DL-P